DEPARTMENT OF COMMERCE

National Oceanic and Atmospheric Administration

RIN 0648-XP86

Marine Mammals; File No.1032-1917

AGENCY: National Marine Fisheries Service (NMFS), National Oceanic and Atmospheric Administration (NOAA), Commerce.

ACTION: Notice; receipt of application for amendment.

SUMMARY: Notice is hereby given that Robert A. Garrott, Ph.D, Ecology Department, Montana State University, 310 Lewis Hall, Bozeman, MT, 59717, has applied for an amendment to Scientific Research Permit No.1032-1917.

DATES: Written, telefaxed, or e-mail comments must be received on or before July 20, 2009.

ADDRESSES: The application and related documents are available for review by selecting “Records Open for Public Comment” from the Features box on the Applications and Permits for Protected Species (APPS) home page, https://apps.nmfs.noaa.gov/, and then selecting File No. 1032-1917-01 from the list of available applications.

These documents are also available upon written request or by appointment in the following office(s):

Permits, Conservation and Education Division, Office of Protected Resources, NMFS, 1315 East-West Highway, Room 13705, Silver Spring, MD 20910; phone (301) 713-2289; fax (301) 427-2521; and

Southwest Region, NMFS, 501 West Ocean Blvd., Suite 4200, Long Beach, CA 90802-4213; phone (562) 980-4001; fax (562) 980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this amendment request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1032-1917-01.

FOR FURTHER INFORMATION CONTACT: Kate Swails or Tammy Adams, (301) 713-2289.

SUPPLEMENTARY INFORMATION: The subject amendment to Permit No. 1032-1917 is requested under the authority of the Marine Mammal Protection Act of 1972, as amended (16 U.S.C. 1361 et seq.), and the regulations governing the taking and importing of marine mammals (50 CFR part 216).

Permit No. 1032-1917, issued on September 4, 2007 (72 FR 51621), authorizes the permit holder to continue long-term studies of the Weddell seal (Leptonychotes weddellii) population in the Erebus Bay, McMurdo Sound, Ross Sea, and White Island areas of Antarctica. Up to 325 adults and 800 pups may be captured annually. Animals may be weighed, tissued sampled, flipper tagged, and released. Annually up to 2000 Weddell, 50 crabeater (Lobodon carcinophagus), and 50 leopard (Hydrurga leptonyx) seals may be incidentally disturbed as a result of the research activities. The permit authorizes up to 4 (2 adults and 2 pups) Weddell seal research-related mortalities annually. The permit holder is requesting the permit be amended to include authorization for use of a small temperature logging tag on pups. The additional tag would be used to measure the amount of time pups spend in the water. This information would be used as part of the mass dynamics studies.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 16, 2009.
P. Michael Payne,
Chief, Permits, Conservation and Education Division, Office of Protected Resources, National Marine Fisheries Service.

[FR Doc. E9-14476 Filed 6-18-09; 8:45 am]

BILLING CODE 3510-22-S